NUCLEAR REGULATORY COMMISSION

Advisory Committee on Nuclear Waste; Meeting Notice

In accordance with the purposes of Sections 29 and 182b. of the Atomic Energy Act (42 U.S.C. 2039, 2232b), the Advisory Committee on Nuclear Waste (ACNW) will hold a meeting on September 20-21, 2005, Pacific Enterprise Plaza Building One, 3250 Pepper Lane, Las Vegas, Nevada 89120.

Tuesday, September 20, 2005, Pacific Enterprise Plaza Building One, 3250 Pepper Lane, Las Vegas, Nevada 89120

9:45 a.m.-10 a.m.: Opening Remarks by the ACNW Chairman (Open)—The ACNW Chairman will make opening remarks regarding the conduct of the meeting.

10 a.m.-11:45 a.m.: Discussion of Prepared Letters/Reports (Open)—The Committee will discuss proposed ACNW reports on matters considered during this meeting.

1 p.m.-2 p.m.: Overview on Status of Yucca Mountain Project (Open)—The Committee will be briefed by a U.S. Department of Energy (DOE) representative on recent developments affecting the geologic repository program at Yucca Mountain, Nevada.

2 p.m.-3 p.m.: NRC Project Plan for the Yucca Mountain License Application Review (Open)—The Committee will be briefed by an NRC representative on staff plans for the review of a DOE license application to construct a proposed geologic repository at Yucca Mountain.

3:15 p.m.-4:45 p.m.: 2005 Update to the DOE Performance Confirmation Program Plan (Open)—The Committee will be briefed by a DOE representative on the Performance Confirmation Plan to be included in any DOE license application requesting authorization to construct a geologic repository at Yucca Mountain.

4:45 p.m.-5:15 p.m.: ACNW Low-Level Radioactive (LLW) White Paper: Status Report (Open)—The Committee will discuss progress in development of a proposed White Paper on LLW management issues.

5:15 p.m.-5:45 p.m.: ACNW Subcommittee Report on DOE Probabilistic Volcanic Hazards Analysis (PVHA) Workshop (Open)—The Committee will hear a report from those Members who observed the August 2005 DOE PVHA expert elicitation update.

Wednesday, September 21, 2005, Pacific Enterprise Plaza Building One, 3250 Pepper Lane, Las Vegas, Nevada 89120

8:30 a.m.-8:40 a.m.: Opening Remarks by the ACNW Chairman (Open)—The ACNW Chairman will make opening remarks regarding the conduct of the meeting.

8:40 a.m.-10:40 a.m.: 1995 National Academy of Sciences (NAS) Recommendations for Yucca Mountain Standards and the 2000 Court Remand (Open)—Two Members of the NAS Committee that developed recommendations for site-specific radiation standards will discuss their individual views regarding the 2005 Court decision vacating the 10,000-year time period of regulatory compliance in 40 CFR part 197, as well as the NAS earlier one million year time frame recommendation.

11 a.m.-12 Noon: Evolution of Climate in the Yucca Mountain Area over the Next Million Years (Open)—An invited expert will brief the Committee on projected climate trends in the Yucca Mountain region and discuss possible implications for the regional ground-water flow system.

1:15 p.m.-2:15 p.m.: An Approach to the Modeling of Magma/Repository Interactions (Open) An ACNW consultant will discuss his views on how this potentially disruptive event might be modeled for the purposes of a Yucca Mountain performance assessment.

2:15 p.m.-3:15 p.m.: ACNW Summer Intern Project: Modeling a Volcanic Ash Plume (Open) The Committee will receive a briefing on how the HYSPLIT (Hyprid-Particle Lagrangian Integrated Trajectory) atmospheric dispersion model, developed by the National Oceanographic and Atmospheric Administration, was used to develop an alternative ash plume dispersion analysis for the Yucca Mountain site.

3:30 p.m.-4:30 p.m.: ACNW Subcommittee Report on August 2005 Savannah River and Barnwell LLW Disposal Site Visit (Open)—The Committee will hear a report from those Members who participated in the aforementioned visits.

4:30 p.m.-5 p.m.: Continuation of Discussion of Possible Letter/Reports (Open)—The Committee will continue its discussion of proposed ACNW reports.

5 p.m.-5:30 p.m.: Miscellaneous (Open)—The Committee will discuss matters related to the conduct of Committee activities and matters and specific issues that were not completed during previous meetings, as time and availability of information permit.

6 p.m.-8 p.m.: ACNW Public Outreach Meeting (Open)—The purpose of meeting is to develop information to advise the Commission on concerns of Yucca Mountain stakeholders, and to advise the NRC Commission on opportunities to provide better involvement of the stakeholders in NRC's prelicensing process.

Procedures for the conduct of and participation in ACNW meetings were published in the Federal Register on October 5, 2004 (69 FR 59620). In accordance with those procedures, oral or written views may be presented by members of the public, including representatives of the nuclear industry. Electronic recordings will be permitted only during the open portions of the meeting. Persons desiring to make oral statements should notify the Cognizant ACNW staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACNW staff prior to the meeting. In view of the possibility that the schedule for ACNW meetings may be adjusted by the Chairman as necessary to facilitate the conduct of the meeting, persons planning to attend should check with the Cognizant ACNW staff if such rescheduling would result in major inconvenience.

Further information regarding topics to be discussed, whether the meeting has been canceled or rescheduled, as well as the Chairman's ruling on requests for the opportunity to present oral statements and the time allotted therefor can be obtained by contacting Ms. Sharon Steele, ACNW Senior Staff Engineer (301-415-8065), between 8 a.m. and 5 p.m., ET.

ACNW meeting agenda, meeting transcripts, and letter reports are available through the NRC Public Document Room (PDR) at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Meeting schedules/agendas).

Videoteleconferencing service is available for observing open sessions of ACNW meetings. Those wishing to use this service for observing ACNW meetings should contact Mr. Theron Brown, ACNW Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Notes:

• Presentation time should not exceed 50 percent of the total time allocated for a specific item. The remaining 50 percent of the time is reserved for discussion.

• Fifty (50) hard copies and one (1) electronic copy of the presentation materials should be provided to the ACNW.

• ACNW meeting schedules are subject to change. Presentations may be canceled or rescheduled to another day. If such a change would result in significant inconvenience or hardship, be sure to verify the schedule with Ms. Sharon Steele at 301-415-6805 between 8 a.m. and 4 p.m. prior to the meeting.

• Special instructions concerning the meeting facility:

—Attendees at this meeting will be subject to security screening prior to entering the meeting facility.

—Attendees should plan to arrive approximately 45 minutes prior to the meeting.

—No food or drink other than bottled water will be allowed in the meeting facility.

—Access to the parking lot in front of the meeting facility is restricted to participants to the meeting and not available to the general public. Ample street parking for the public is available nearby on Pepper Lane and Sagebrush Lane.

Dated: September 2, 2005.
Annette Vietti-Cook,
Secretary of the Commission.

[FR Doc. E5-4901 Filed 9-8-05; 8:45 am]

BILLING CODE 7590-01-P